DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 4, 2003.

Interested persons are invited to submit written comments regarding the subject matter of the investigations to the Director, Division of Trade Adjustment Assistance, at the address shown below, not later than August 4, 2003.

The petitions filed in this case are available for inspection at the Office of the Director, Division of Trade Adjustment Assistance, Employment and Training Administration, U.S. Department of Labor, Room C-5311, 200 Constitution Avenue, NW., Washington, DC 20210.

Signed at Washington, DC this 14th day of July 2003.
Timothy Sullivan,
Director, Division of Trade Adjustment Assistance.

Appendix

Petitions Instituted Between 06/30/2003 and 07/03/2003

TA-W | Subject firm (petitioners) | Location | Date of institution | Date of petition
52,172 | Garan Manufacturing (Comp) | Marksville, LA | 06/30/2003 | 06/27/2003
52,173 | Carr Lowrey (MD) | Baltimore, MD | 06/30/2003 | 06/27/2003
52,174 | Elkem Metals (PACE) | Alloy, WV | 06/30/2003 | 06/25/2003
52,175 | Froedtert Malt Co., Inc. (UAW) | Milwaukee, WI | 06/30/2003 | 06/27/2003
52,176 | Belmont Dyers (Wkrs) | Belmont, NC | 06/30/2003 | 06/04/2003
52,177 | Redman Knitting, Inc. (Comp) | Ridgewood, NY | 06/30/2003 | 05/20/2003
52,178 | Adobe Air., Inc. (Wkrs) | Phoenix, AZ | 06/30/2003 | 06/24/2003
52,179 | Jim Michel Logging, Inc. (Comp) | Baker City, OR | 06/30/2003 | 06/27/2003
52,180 | Stencil Aire, LLC (Wkrs) | Green Lake, WI | 06/30/2003 | 06/27/2003
52,181 | Electrical Wholesalers, Inc. (Comp) | Sumter, SC | 06/30/2003 | 06/26/2003
52,182 | Saint-Gobain Abrasives (Comp) | Brownsville, TX | 06/30/2003 | 05/19/2003
52,183 | Fishing Vessel (F/) Kristi Lynn (Comp) | Petersburg, AK | 06/30/2003 | 06/26/2003
52,184 | F/V Partisan (Comp) | Sitka, AK | 07/01/2003 | 06/16/2003
52,185 | F/V Flounder Flats (Comp) | Dillingham, AK | 07/01/2003 | 06/06/2003
52,186 | BASF Corporation (Wkrs) | Fenton, MO | 07/01/2003 | 05/18/2003
52,187 | General Electric (Comp) | Jonesboro, AR | 07/01/2003 | 06/27/2003
52,188 | Hewlett Packard (TX) | Cypress, TX | 07/01/2003 | 06/25/2003
52,189 | Oplink Communications (Wkrs) | San Jose, CA | 07/01/2003 | 06/18/2003
52,190 | Stearns, Inc. (Wkrs) | Grey Eagle, MN | 07/01/2003 | 06/24/2003
52,191 | Image Metal Works (Comp) | Milton Freewate, OR | 07/01/2003 | 06/30/2003
52,192 | Polymark Corporation (ITW) | Cincinnati, OH | 07/01/2003 | 06/27/2003
52,193 | Planar Systems, Inc. (Wkrs) | Hillsboro, OR | 07/01/2003 | 06/23/2003
52,194 | Cascades Diamond, Inc. (PACE) | Thorndike, MA | 07/01/2003 | 06/24/2003
52,195 | APW (Comp) | Creedmoor, NC | 07/01/2003 | 06/30/2003
52,196 | Emerson Motor Company (Wkrs) | Humboldt, TN | 07/01/2003 | 06/25/2003
52,197 | Specialty Mode, Inc. (Wkrs) | Jacksonville, NC | 07/01/2003 | 05/19/2003
52,198 | Agere Systems (IBEW) | Allentown, PA | 07/01/2003 | 06/02/2003
52,199 | Cirrus Logic (Comp) | Austin, TX | 07/01/2003 | 06/27/2003
52,200 | Ladd Furniture, Lea Industries div. (Comp) | Morristown, TN | 07/01/2003 | 06/27/2003
52,201 | Meridian Beartrack Company (Comp) | Salmon, ID | 07/01/2003 | 06/16/2003
52,202 | Lexel (Wkrs) | Hutsonville, IL | 07/01/2003 | 06/23/2003
52,203 | Dresser, Inc. (Comp) | Berea, KY | 07/01/2003 | 07/01/2003
52,204 | Ericsson (Comp) | Lynchburg, VA | 07/01/2003 | 06/27/2003
52,205 | Kimball (Comp) | Boise, ID | 07/01/2003 | 06/26/2003
52,206 | Say Cheese (Wkrs) | Lewiston, ME | 07/01/2003 | 06/26/2003
52,207 | F/V Selah (Comp) | Haines, AK | 07/02/2003 | 06/26/2003
52,208 | Neuville Industries, Inc. (Comp) | Athens, TN | 07/02/2003 | 07/01/2003
52,209 | H. Warshow & Sons, Inc. (Comp) | Milton, PA | 07/02/2003 | 07/01/2003
52,210 | Woodgrain Millwork (Comp) | White City, OR | 07/02/2003 | 07/01/2003
52,211 | Heraeus Quartztech, Inc. (Comp) | Fairfield, NJ | 07/02/2003 | 06/30/2003
52,212 | OBG Distribution LLC (UFCW) | Gainesboro, TN | 07/02/2003 | 06/30/2003
52,213 | Hoover Company (The) (IBEW) | North Canton, OH | 07/02/2003 | 06/25/2003
52,214 | ITT Industries (Comp) | Searcy, AR | 07/02/2003 | 06/22/2003
52,215 | B-Line Systems (Wkrs) | Portland, OR | 07/02/2003 | 06/26/2003
52,216 | Scope Molding LLC (Wkrs) | Almena, WI | 07/02/2003 | 07/01/2003
52,217 | Modular Mining Systems, Inc. (Wkrs) | Tucson, AZ | 07/02/2003 | 07/01/2003
52,218 | Giddings and Lewis (Comp) | Fond du Lac, WI | 07/02/2003 | 06/26/2003
52,219 | Geo-Form, Inc. (Comp) | Girard, PA | 07/02/2003 | 06/20/2003
52,220 | Nickell Molding Company (AR) | Malvern, AR | 07/02/2003 | 06/30/2003
52,221 | Motorola (Wkrs) | Mesa, AZ | 07/02/2003 | 06/30/2003
52,222 | O'Neill and Sons, Inc. (IBT) | Tumwater, WA | 07/03/2003 | 07/02/2003
52,223 | O'Neill Transportation, L.L.C. (IBT) | Tumwater, WA | 07/03/2003 | 07/02/2003
52,224 | VF Imagewear (Comp) | Brownsville, TX | 07/03/2003 | 07/02/2003
52,225 | Sanmina-SCI (Comp) | Stanton, KY | 07/03/2003 | 05/12/2003
52,226 | Yorkshire Americas, Inc. (Comp) | Charlotte, NC | 07/03/2003 | 07/02/2003
52,227 | Vestshell Vermont, Inc. (Comp) | St. Albans, VT | 07/03/2003 | 07/03/2003
52,228 | Harbison-Walker Refractories Co. (Comp) | Ludington, MI | 07/03/2003 | 07/03/2003
52,229 | Motorola (Wkrs) | Fort Worth, TX | 07/03/2003 | 06/13/2003
52,230 | Faribault Woolen Mill (Wkrs) | Faribault, MN | 07/03/2003 | 02/14/2003
52,231 | Salisbury Sportswear (Wkrs) | Salisbury, PA | 07/03/2003 | 07/02/2003
52,232 | Schas Industries, LLC (Comp) | Wilkesboro, NC | 07/03/2003 | 06/27/2003
52,233 | F/V Western Queen (Comp) | Southeast, AK | 07/03/2003 | 07/01/2003

[FR Doc. 03-18805 Filed 7-23-03; 8:45 am]

BILLING CODE 4510-30-P